DEPARTMENT OF THE INTERIOR

Fish and Wildlife Service

50 CFR Part 17

[Docket No. FWS-R3-ES-2011-0029 ; 92220-1113-000; ABC Code: C6]

RIN 1018-AX57

Endangered and Threatened Wildlife and Plants; Revising the List of Endangered and Threatened Wildlife for the Gray Wolf (Canis lupus) in the Eastern United States

AGENCY: Fish and Wildlife Service, Interior.

ACTION: Proposed rule; correction and reopening of comment period.

SUMMARY: On May 5, 2011, we, the U.S. Fish and Wildlife Service (Service), published a proposed rule to reevaluate the listing of the Minnesota population of gray wolves (Canis lupus) and revise the listing to conform to current statutory and policy requirements (76 FR 26086). In that proposed rule, we recognized recent taxonomic information indicating that the gray wolf subspecies Canis lupus lycaon should be elevated to the full species C. lycaon. We proposed to identify the Minnesota population as a Western Great Lakes (WGL) Distinct Population Segment (DPS) of the gray wolf and to remove this DPS from the List of Endangered and Threatened Wildlife. We also proposed to revise the range of the gray wolf (the species C. lupus) by removing all or parts of 29 eastern States, which, based in part on recognition of C. lycaon, were not part of the historical range of the gray wolf.

We announce the reopening of the comment period for our May 5, 2011, proposed rule to provide for public review and comment of additional information regarding our recognition of C. lycaon as a separate species. We seek information, data, and comments from the public with respect to new information relevant to the taxonomy of wolves in North America. In addition we are making a correction to our May 5, 2011, proposed rule and notifying the public that we are considering concluding that proposed rule with two or more final rules.

DATES: We request that comments on this proposal be submitted by the close of business on September 26, 2011. Any comments that we receive after the closing date may not be considered in the final decision on this action.

ADDRESSES: Document availability: See SUPPLEMENTARY INFORMATION for information on how to access the new report described in this revised proposed rule.

Comment submission: You may submit comments by one of the following methods:

Electronically: Go to the Federal eRulemaking Portal: http://www.regulations.gov. In the Enter Keyword or ID box, enter FWS-R3-ES-2011-0029, which is the docket number for this rulemaking. Then, in the Search panel at the top of the screen, under the Document Type heading, click on the Proposed Rules link to locate this document. You may submit a comment by clicking on “Submit a Comment.”

By hard copy: Submit by U.S. mail or hand-delivery to: Public Comments Processing, Attn: FWS-R3-ES-2011-0029; Division of Policy and Directives Management; U.S. Fish and Wildlife Service; 4401 N. Fairfax Drive, MS 2042-PDM; Arlington, VA 22203.

We will post all comments on http://www.regulations.gov. This generally means that we will post any personal information you provide us (see the Public Comments section below for more information).

FOR FURTHER INFORMATION CONTACT: Laura Ragan, 612-713-5350. Direct all questions or requests for additional information to: GRAY WOLF QUESTIONS, U.S. Fish and Wildlife Service, Ecological Services, 5600 American Blvd. West, Suite 990, Bloomington, MN 55437-1458. Additional information is also available on our Web site at http://www.fws.gov/midwest/wolf. Individuals who are hearing-impaired or speech-impaired may call the Federal Relay Service at 1-800-877-8337 for TTY assistance.

SUPPLEMENTARY INFORMATION:

Background

In our May 5, 2011, proposed rule (76 FR 26086), we specifically recognized the eastern wolf (Canis lycaon) as a full species. Within the proposed rule, we recognized three wolf species with ranges in the conterminous United States: Canis lupus (gray wolf), Canis lycaon (eastern wolf), and Canis rufus (red wolf). We also recognized that the ranges of C. lupus and C. lycaon overlap in the Western Great Lakes region, and the population of wolves in the Western Great Lakes region includes both gray wolf and eastern wolf. However, the available evidence suggested the range of C. lupus did not otherwise historically overlap with the ranges of C. lycaon or C. rufus in the eastern United States. Thus, the May 5, 2011, proposed rule reflected our understanding that the wolf species that historically occupied the northeastern United States was the eastern wolf and the wolf species that historically occupied the southeastern United States was the red wolf. Accordingly, we proposed to revise the gray wolf listing to remove those States.

The comment period for that proposed rule closed on July 5, 2011. We received significant comments from States and other stakeholders highlighting the controversy in North American wolf taxonomy. As such, we are reopening the comment period to provide further information regarding the taxonomic interpretation recognized in the May 5, 2011, proposed rule and seek comment as to the best scientific and commercial data available regarding the recognition of Canis lycaon as a full species. In part, this conclusion was based on information summarized in a manuscript prepared by Service employees that is currently undergoing review for publication (Chambers et al., in prep.).

On May 5, 2011, we simultaneously reissued our April 2, 2009, final rule that identified the Northern Rocky Mountain (NRM) population of gray wolf as a distinct population segment (DPS) and revised the List of Endangered and Threatened Wildlife by removing most of the gray wolves in the DPS (76 FR 25590). This action became effective upon publication in the Federal Register. The May 5, 2011, proposed rule did not reflect language from our separate May 5, 2011, final rule delisting most of the NRM DPS. The proposed rule language below corrects this to reflect the current status of those wolves. Finally, it is also worth noting that we received several comments on our May 5, 2011, proposal requesting that we further subdivide the proposal into regional pieces. Thus, we are hereby providing notice that we are considering issuing separate final rules for our final determinations on the delisting of the Western Great Lakes DPS and the delisting of all or portions of the 29 States outside the historical range of the gray wolf, which may itself be split into separate rules for the Northeast and the Southeast.

Public Comments Solicited

We intend that any final action resulting from this proposal will be as accurate and as effective as possible. Therefore, we hereby request data, comments, new information, or suggestions from the public, other concerned governmental agencies, the scientific community, Tribes, industry, or any other interested party concerning this proposed rule. We particularly seek comments concerning:

(1) The taxonomic classification of wolves in the midwestern and northeastern United States as described in a Service manuscript prepared by Chambers et al., in particular the recognition of the eastern wolf (Canis lycaon) as a full species.

(2) Any other relevant information regarding wolves in eastern North America.

You may submit your comments and materials concerning this proposed rule by one of the methods listed in ADDRESSES. We request that you send comments only by the methods described in ADDRESSES. Comments must be submitted to http://www.regulations.gov before midnight (Eastern Daylight Time) on the date specified in DATES. All comments that were submitted during the earlier public comment period will be included as part of the administrative record for this action and need not be resubmitted.

We will post your entire comment—including your personal identifying information—on http://www.regulations.gov. If you provide personal identifying information, such as your street address, phone number, or e-mail address, you may request at the top of your document that we withhold this information from public review. However, we cannot guarantee that we will be able to do so.

Comments and materials we receive, as well as supporting documentation we used in preparing this proposed rule including the Chambers et al. manuscript (in prep), will be available for public inspection on http://www.regulations.gov at Docket No. FWS-R3-ES-2011-0029; on the Service's Internet site at http://www.fws.gov/midwest/wolf/; or by appointment, during normal business hours at the following Ecological Services offices:

• Twin Cities, Minnesota Ecological Services Field Office, 4101 American Blvd. E., Bloomington, MN; 612-725-3548.

• Green Bay, Wisconsin Ecological Services Field Office, 2661 Scott Tower Dr., New Franken, WI; 920-866-1717.

• East Lansing, Michigan Ecological Services Field Office, 2651 Coolidge Road, Suite 101, East Lansing, MI; 517-351-2555.

• New England Ecological Services Field Office, U.S. Fish and Wildlife Service, 70 Commercial St., Suite 300, Concord, NH; 603-223-2541.

Authority: The authority for this action is the Endangered Species Act of 1973, as amended (16 U.S.C. 1531 et seq.).

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 76 FR 26086, May 5, 2011, as follows:

PART 17—ENDANGERED AND THREATENED WILDLIFE AND PLANTS

1. The authority citation for part 17 continues to read as follows:

Authority: 16 U.S.C. 1361-1407; 16 U.S.C. 1531-1544; 16 U.S.C. 4201-4245; Pub. L. 99-625, 100 Stat. 3500; unless otherwise noted.

2. Amend § 17.11(h) by revising the entry for “Wolf, gray” under MAMMALS in the List of Endangered and Threatened Wildlife to read as follows:

§ 17.11 [Amended]

* * * * *

(h) * * *

Species: Common name | Species: Scientific name | Historic range | Vertebrate population where endangered or threatened | Status | When listed | Critical habitat | Special rules
Mammals
| * * * * * * *
Wolf, gray | Canis lupus | Holarctic | U.S.A.: All of CA, CO, KS, NE, and NV; those portions of AZ, NM, TX, and WY not included in an experimental population as set forth below; and portions of IA, MO, ND, OK, OR, SD, TX, UT, and WA as follows: | E | 1, 6, 13, 15, 35 | N/A | N/A
|  |  | (1) Southern IA, (that portion south of the centerline of Highway 80);
|  |  | (2) Northwestern MO (that portion northwest of the centerline of Interstate Highway 44 and northwest of the centerline of Interstate Highway 70 east of St. Louis);
|  |  | (3) Western ND (that portion south and west of the Missouri River upstream to Lake Sakakawea and west of the centerline of Highway 83 from Lake Sakakawea to the Canadian border);
|  |  | (4) Western OK (that portion west of the centerline of Interstate Highway 35 and northwest of the centerline of Interstate Highway 44 north of Oklahoma City);
|  |  | (5) Western OR (that portion west of the centerline of Highway 395 and Highway 78 north of Burns Junction and that portion of OR west of the centerline of Highway 95 south of Burns Junction);
|  |  | (6) Western SD (that portion south and west of the Missouri River);
|  |  | (7) Western TX (that portion west of the centerline of Interstate Highway 35);
|  |  | (8) Most of Utah (that portion south and west of the centerline of Highway 84 and that portion south of Highway 80 from Echo to the UT/WY Stateline); and
|  |  | (9) Western WA (that portion west of the centerline of Highway 97 and Highway 17 north of Mesa and that portion west of the centerline of Highway 395 south of Mesa). Mexico
Do | ...... do | ...... do | U.S.A. (portions of AZ, NM, and TX—see § 17.84(k)) | XN | 631 | NA | 17.84(k)
Wolf, gray [Northern Rocky Mountain DPS] | Canis lupus | U.S.A. (MT, ID, WY, eastern WA, eastern OR, and north central UT). | U.S.A. (WY—see § 17.84(i) and (n)) | XN | 561, 562 | NA | 17.84(i) 17.84(n)
| * * * * * * *

Dated: August 16, 2011.
Gregory E. Siekanic,
Acting Director, U.S. Fish and Wildlife Service.

[FR Doc. 2011-21839 Filed 8-25-11; 8:45 am]

BILLING CODE 4310-55-P